DEPARTMENT OF LABOR

Employment and Training Administration

[TA-W-50,411]

The Holmes Group Rival Division Flowood Plant, Jackson, MS; Notice of Termination of Investigation

Pursuant to section 221 of the Trade Act of 1974, as amended, an investigation was initiated on January 2, 2003 in response to a worker petition filed by a company official on behalf of workers at The Holmes Group, Rival Division, Flowood Plant, Jackson, Mississippi.

The petitioning group of workers is included in a petition investigation, TA-W-50,280, for which a determination has not yet been issued.

Consequently, further investigation would serve no purpose, and the investigation has been terminated.

Signed at Washington, DC, this 13th day of February 2003.
Linda G. Poole,
Certifying Officer, Division of Trade Adjustment Assistance.

[FR Doc. 03-5543 Filed 3-7-03; 8:45 am]

BILLING CODE 4510-30-P